DEPARTMENT OF COMMERCE

National Oceanic and Atmospheric Administration

RIN 0648-XF379

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the University of Rhode Island to conduct flatfish bycatch reduction in the limited access general category scallop fishery contains all of the required information and warrants further consideration.

Regulations under the Magnuson-Stevens Fishery Conservation and Management Act require publication of this notice intended to provide interested parties the opportunity to comment on applications for proposed Exempted Fishing Permits.

DATES: Comments must be received on or before May 23, 2017.

ADDRESSES: You may submit written comments by any of the following methods:

• Email: nmfs.gar.efp@noaa.gov. Include in the subject line “URI Gear Research EFP.”

• Mail: John K. Bullard, Regional Administrator, NMFS, Greater Atlantic Regional Fisheries Office, 55 Great Republic Drive, Gloucester, MA 01930. Mark the outside of the envelope “Comments on URI Gear Research EFP.”

FOR FURTHER INFORMATION CONTACT: Shannah Jaburek, Fisheries Management Specialist, 978-282-8456.

SUPPLEMENTARY INFORMATION: The University of Rhode Island submitted a complete application for an EFP on February 23, 2017, in support of research associated with a 2016 Bycatch Reduction Engineering Program grant titled “The Flatfish Deflector Bar: Excluding Flatfish from Scallop Dredges in the Northeast.” The project would test a V-shaped bar with drop chains (V bar will refer to the entire apparatus consisting of bar and chains) attached to the dredge wire to reduce flatfish bycatch while maintaining the catch of sea scallops. The vessels would be temporarily exempt from possession limits and minimum size requirements specified in 50 CFR part 648, subsections B and D through O, for sampling purposes only, and from the scallop observer program requirements at 648.11(g). URI has contracted East West Technical Services (an observer and at-sea monitor service provider) to conduct the at-sea data collection component of this project. All trips would be conducted on LAGC IFQ vessels, and all landed scallop catch would count against the vessels yearly IFQ allocation. Any fishing activity conducted outside of normal fishing operations as allowed under Northeast fishery regulations, 50 CFR part 648, and outside the scope of the exempted fishing activity would be prohibited, including landing fish in excess of a possession limit or below the minimum size.

Six vessels would conduct scallop dredging beginning in June 2017 and continue through April 2018, on approximately 40 trips lasting approximately one day-at-sea (DAS). Within the 40 DAS there would be two pilot DAS in advance of the research DAS to test the design and make any necessary changes, as well as two DAS exclusively for underwater video collection to film fish behavior in relation to the gear. All research trips would complete approximately seven tows per day for a duration of 50 minutes at a standard tow speed between 3.8 to 4.5 knots (or averaging 4.2 knots). Trips would take place in the Southern New England Scallop Dredge Exemption Area where part of the LAGC fleet normally operates.

All tows would be conducted with a single dredge ranging in width from 8 to 10.5 feet (2.4 to 3.2 m) following an alternate paired tow strategy where a pair consists of one control and one experimental tow. Researchers would attach the V bar to the tow cable and anchor the sides to the outer dredge frame with chain and shackles at all connection points for the experimental tows. The V bar will be removed for the control tows. Chains will hang vertically from the V bar to the ocean floor. The chains will be spaced at intervals meant to restrict flatfish from swimming between them. The spacing set up will be determined during the pilot days. Researchers expect that the chains will create a dust cloud designed to keep the flatfish moving away from the center of the bar towards the sides and out of the dredge path.

Researchers would weigh all scallop catch from both dredges. Samplers would record total weight of bycatch species to the nearest tenth of a pound and individual length measurements to the nearest centimeter. If the volume of the catch is large, samplers would employ subsampling protocols. All bycatch would be returned to the sea as soon as practicable following data collection. Exemption from possession limit and minimum sizes would ensure the vessel is not in conflict with possession regulations while collecting catch data. All catch above possession limits or below minimum sizes would be discarded as soon as practicable following data collection. Exemption from the sea scallop observer program requirements would allow researchers flexibility for catch sampling timing and onboard space accommodations since vessels in the LAGC fleet are typically smaller with limited deck space. We have consulted with the Northeast Fishery Observer Program on the potential exemption. The observer program requirement exemption for this project would not prevent us from achieving observer coverage levels needed in the LAGC scallop fishery.

All research trips would otherwise be conducted in a manner consistent with normal commercial fishing conditions and catch consistent with the LAGC daily possession limit would be retained for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 3, 2017.
Karen H. Abrams,
Acting Deputy Director, Office of Sustainable Fisheries, National Marine Fisheries Service.

[FR Doc. 2017-09277 Filed 5-5-17; 8:45 am]

BILLING CODE 3510-22-P